INSTITUTE OF PEACE

Announcement of the Fall 2013 Annual Grant Competition for Immediate Release

AGENCY: United States Institute of Peace.

ACTION: Notice.

SUMMARY: The Agency announces its Annual Grant Competition, which offers support for research, education and training, and the dissemination of information on international peace and conflict resolution. The Annual Grant Competition is open to any project that falls within the Institute's broad mandate of international conflict resolution.

Deadline: October 1, 2013; Online application available: http://www.usip.org/grants-fellowships/annual-grantcompetition.

DATES: Submission of Application: October 1, 2013; Notification Date: Early April 2014.

ADDRESSES: United States Institute of Peace, 2301 Constitution Avenue NW., Washington, DC 20037, (202) 429-3842 (phone), (202) 833-1018 (fax), (202) 457-1719 (TTY), Email: grants@usip.org.

FOR FURTHER INFORMATION CONTACT: The Grant Program • Annual Grant Competition, Phone (202) 429-3842, Email: grants@usip.org.

Dated: May 8, 2013.
Michael Graham,
Senior Vice President for Management.

[FR Doc. 2013-11199 Filed 5-13-13; 8:45 am]

BILLING CODE 6820-AR-M